FEDERAL COMMUNICATIONS COMMISSION

Radio Broadcasting Services; AM or FM Proposals to Change the Community of License

AGENCY: Federal Communications Commission.

ACTION: Notice.

SUMMARY: The following applicants filed AM or FM proposals to change the community of license: Call Communications Group, Inc., Station WAZQ, Facility ID 175980, BPED-20140403ABW, from Islamorada, FL, to Duck Key, FL; Daij Media, LLC, Station KJOZ, Facility ID 20625, BP-20120731AAA, from Conroe, TX, to Baytown, TX; KRJG, INC., Station KNDN-FM, Facility ID 189502, BMPH-20140425ABU, from Teec Nos Pos, AZ, to Shiprock, NM; NRC Broadcasting Mountain Group, LLC, Station KIDN-FM, Facility ID 57339, BPH-20140311ACI, from Burns, CO, to Milner, CO; Ouachita Broadcasting, Inc., Station KENA-FM, Facility ID 50772, BPH-20140402AQH, from Mena, AR, to De Queen, AR; Powell Meredith Communications Company, Station NEW, Facility ID 161417, BMP-20140320AED, from Paradise, NV, to Enterprise, NV; Tracy McCutchen, Station NEW, Facility ID 189553, BMPH-20140403ABI, from Menard, TX, to Mertzon, TX; Vickers, Victor M, Station WVHY, Facility ID 191568, BMPH-20140306ACF, from Homerville, GA, to Axson, GA; Western Broadcasting LS, LLC, Station KURR, Facility ID 164147, BPH-20140317ABV, from Indian Springs, NV, to Hildale, UT.

DATES: Comments may be filed on or before July 28, 2014.

ADDRESSES: Federal Communications Commission, 445 12th Street SW., Washington, DC 20554.

FOR FURTHER INFORMATION CONTACT: Tung Bui, 202-418-2700.

SUPPLEMENTARY INFORMATION: This is a summary of the Commission's document, Radio Broadcasting Services; AM or FM Proposals to Change the Community of License. The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-800-378-3160 or www.BCPIWEB.com.

Federal Communications Commission.
James D. Bradshaw,
Deputy Chief, Audio Division, Media Bureau.

[FR Doc. 2014-12063 Filed 5-23-14; 8:45 am]

BILLING CODE 6712-01-P